FEDERAL MINE SAFETY AND HEALTH REVIEW COMMISSION

Sunshine Act Meeting

October 5, 2000.

TIME AND DATE: 10 a.m., Thursday, October 12, 2000.

PLACE: Room 6005, 6th Floor, 1730 K Street, NW., Washington, DC.

STATUS: Open.

MATTERS TO BE CONSIDERED: The Commission will consider and act upon the following:

1. Consolidation Coal Co., Docket No. WEVA 98-37 (Issues include whether, based on visible observations, the operator failed to disperse and carry away drill dust from the breathing zones of roof bolters, thereby violating 30 C.F.R. § 72.630(d)).

Any person attending an open meeting who requires special accessibility features and/or auxiliary aids, such as sign language interpreters, must inform the Commission in advance of those needs. Subject to 29 C.F.R. §§ 2706.150(a)(3) and 2706.160(d).

CONTACT PERSON FOR MORE INFORMATION: Jean Ellen (202) 653-5629/(202) 708-9300 for TDD Relay/1-800-877-8339 for toll free.

Jean H. Ellen,
Chief Docket Clerk.

[FR Doc. 00-26401 Filed 10-10-00; 3:41 pm]

BILLING CODE 6735-01-M